DEPARTMENT OF TRANSPORTATION

Federal Aviation Administration

14 CFR Part 139

[Docket No. FAA-2000-7479; Notice No. 00-05]

RIN 2120-AG96

Certification of Airports; Correction

AGENCY: Federal Aviation Administration (FAA), DOT.

ACTION: Proposed rule; correction.

SUMMARY: This document makes corrections to the proposed rule published in the Federal Register on June 21, 2000 (65 FR 38639), which proposes to revise the current airport certification regulation and to establish certification requirements for airports serving scheduled air carrier operations in aircraft with 10-30 seats.

FOR FURTHER INFORMATION CONTACT: Linda Bruce, 202-267-8553, or E-mail: linda.bruce@faa.gov.

SUPPLEMENTARY INFORMATION:

Correction

In proposed rule FR Doc. 00-14524, published on June 21, 2000 (65 FR 38636), make the following corrections:

1. On page 38654, in the second column, fifth full paragraph, line one, correct “Similar to proposed § 139.317(1)” to read “Similar to proposed § 139.317(k).”

2. On page 38673, in the second column, correct § 139.111 by revising paragraphs (s),(b), and (c) to read as follows:

§ 139.111 Exemptions.

(a) An applicant or a certificate holder may petition the Administrator under 14 CFR 11, General Rulemaking Procedures, of this chapter for an exemption from any requirement of this part.

(b) Under 49 U.S.C. 44706(c), the Administrator may exempt an applicant or a certificate holder that enplanes annually less than one-quarter of 1 percent of the total number of passengers enplaned at all air carrier airports from all, or part, of the aircraft rescue and firefighting equipment requirements of this part, on the grounds that compliance with those requirements is, or would be, unreasonably costly, burdensome, or impractical. An applicant for, or holder of, an airport operating certificate filing for such an exemption shall use the format prescribed under § 139.321.

(c) Each petition filed under section must be submitted in duplicate to the—

(1) Regional Airports Division Manager; and

(2) U.S. Department of Transportation's Docket Management System, per 14 CFR 11.

3. On page 38677, in the first and second columns correct § 139.137 by removing paragraph (f); and by redesignating paragraphs (g) through (1) as (f) through (k); and by revising newly designated paragraph (f)(3) to read as follows:

§ 139.317 Aircraft rescue and firefighting: Equipment and agents.

* * * * *

(f) * * *

(3) Notwithstanding the requirements of paragraph (f) of this section, any certificate holder whose aircraft rescue and firefighting vehicles are not equipped with turrets or do not have the discharge capacity required in this section, but otherwise met the requirements of this part on December 31, 1987, need not comply with paragraph (f) of this section for a particular vehicle until that vehicle is replaced or rehabilitated.

* * * * *

Issued in Washington, DC on August 14, 2000.
Donald P. Byrne,
Assistant Chief Counsel for Regulations.

[FR Doc. 00-20947 Filed 8-18-00; 8:45 am]

BILLING CODE 4910-13-M